NEIGHBORHOOD REINVESTMENT CORPORATION

Sunshine Act Meetings

TIME AND DATE: 4:00 p.m., Tuesday, October 5, 2021.

PLACE: Via conference call.

STATUS: This meeting will be open to the public.

MATTERS TO BE CONSIDERED: Special Board of Directors meeting.

Agenda

I. Call to Order

II. Strategic Plan Recap

III. Discussion

IV. Next Steps

V. Adjournment

CONTACT PERSON FOR MORE INFORMATION: Lakeyia Thompson, Special Assistant, (202) 524-9940; lthompson@nw.org.

Lakeyia Thompson,
Special Assistant.

[FR Doc. 2021-21308 Filed 9-27-21; 4:15 pm]

BILLING CODE 7570-02-P